DEPARTMENT OF COMMERCE

National Oceanic and Atmospheric Administration

[I.D. 031403D]

Proposed Collection; Comment Request; Basic Requirements for All Marine Mammal Special Exception Permits to Take, Import and Export Marine Mammals, and for Maintaining a Captive Marine Mammal Inventory under the Marine Mammal Protection Act, the Fur Seal Act, and the Endangered Species Act.

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before May 19, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Amy Sloan or Ruth Johnson at 301-713- 2289, or to Amy.Sloan@noaa.gov.

SUPPLEMENTARY INFORMATION:

I. Abstract

The respondents will be applicants for and holders of scientific research and enhancement permits, commercial and educational photography permits, public display permits for captures and first-time imports, and Letter of Confirmation holders under the General Authorization for Level B scientific research projects. The Marine Mammal Protection Act (MMPA), the Fur Seal Act (FSA) and the Endangered Species Act (ESA) prohibit the taking, import, and export of marine mammals with certain exceptions. Applicants desiring a permit or authorization to take, import, or export must provide certain information to be used as a basis for determining whether the proposed activity is consistent with the purposes, policies, and requirements of the MMPA, ESA, and/or FSA and if a permit or authorization should be issued. Permit holders and authorized researchers under the General Authorization are required to report periodically on activities conducted and species taken to ensure compliance with permit conditions and protection of the animals. This also updates information as necessary on any marine mammals held captive for purposes of maintaining the marine mammal inventory as required under the 1994 Amendments to the MMPA.

There is no overlap or duplication for marine mammal permit actions under the ESA as the marine mammal regulations (50 CFR 216.32 - 216.44) address requirements of both laws, and a single application and permit covers all requirements of both.

II. Method of Collection

Most application material is paper and written to respond to a required format. Some reports can be submitted electronically.

III. Data

OMB Number: 0648-0084.

Form Number: None.

Type of Review: Regular submission.

Affected Public: Individuals or households; business or other for-profit organizations; not-for-profit institutions; Federal Government; and State, Local, or Tribal Government. The majority of the affected public will be from the scientific research community, photographic journalists, and public display facilities.Estimated Number of Respondents: 493.

Estimated Time Per Response: 29 hours for an application for a scientific research or enhancement permit; 20 hours for an application for a public display permit; 10 hours for an application for a photography permit; 19 hours for a major amendment to a permit; 3 hours for a minor amendment to a permit or for a change to a General Authorization; 2 hours for a request to retain or transfer a rehabilitated marine mammal; 1 hour for a foreign government certification and comity statement for a public display export request; 30 minutes for notification of a public display capture or import; 2 hours for a notification of and report on a public display capture; 30 minutes for an emergency transfer waiver of notifications; 30 minutes for an initial escape report; 1 hour for an one-week status report on an escape; 2 hours for a six-month status report on an escape; 12 hours for a scientific research/enhancement annual or final report; 2 hours for public display or photography permit annual or final report; 8 hours for a General Authorization annual or final report; 2 hours for a marine mammal inventory (1 hour for a transport notification, 30 minutes for a data sheet and a person/holder/facility sheet); and 2 hours for recordkeeping.

Estimated Total Annual Burden Hours: 6,462.

Estimated Total Annual Cost to Public: $1,000.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 12, 2003.
Gwellnar Banks,
Management Analyst, Office of the Chief Information Officer.

[FR Doc. 03-6593 Filed 3-18-03; 8:45 am]

BILLING CODE 3510-22-S